DEPARTMENT OF ENERGY

Federal Energy Regulatory Commission

[Docket No. RP04-14-000]

Maritimes & Northeast Pipeline L.L.C.; Notice of Proposed Changes in FERC Gas Tariff

October 7, 2003.

Take notice that on October 1, 2003, Maritimes & Northeast Pipeline, L.L.C. (Maritimes) tendered for filing as part of its FERC Gas Tariff, First Revised Volume No. 1, Fifth Revised Sheet No. 11, to become effective on November 1, 2003.

Maritimes states that it is making this Fuel Retainage Quantity (FRQ) filing, pursuant to section 20 of the General Terms and Conditions (GT&C) of its FERC Gas Tariff. Maritimes is proposing an increase of 0.30% to the four seasonal periods, the projected Fuel Retainage Percentage for each of the four periods will be 1.20%.

Maritimes also states that it is submitting the calculation of the (FRQ) Deferred Account amount, pursuant to section 20 of the GT&C, which provides that Maritimes will calculate surcharges or refunds designed to amortize the net monetary value of the balance in the FRQ Deferred Account at the end of the previous accumulation period. Maritimes states that for the period August 1, 2002, through July 31, 2003, the FRQ Deferred Account resulted in a net debit balance of approximately $1,607,858.38, inclusive of carrying charges, that will be surcharged to Maritimes' customers.

Maritimes states that copies of this filing were mailed to all affected customers of Maritimes and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: October 14, 2003.

Linda Mitry,
Acting Secretary.

[FR Doc. 03-26064 Filed 10-14-03; 8:45 am]

BILLING CODE 6717-01-P